DEPARTMENT OF TRANSPORTATION

National Highway Traffic Safety Administration

[Docket No. NHTSA 2005-20047; Notice 2]

Bridgestone/Firestone North America Tire, LLC. Denial of Application for Decision of Inconsequential Noncompliance

Bridgestone/Firestone North America Tire, LLC has determined that approximately 323 size 445/50R22.5 20 Ply, Load Range ‘L’, Bridgestone S892 tires do not meet the labeling requirements mandated by Federal Motor Vehicle Safety Standard (FMVSS) No. 109, “New Pneumatic Tires.”

Pursuant to 49 U.S.C. 30118(d) and 30120(h), Bridgestone/Firestone has petitioned for a determination that this noncompliance is inconsequential to motor vehicle safety and has filed an appropriate report pursuant to 49 CFR Part 573, “Defect and Noncompliance Reports.” FMVSS No. 109 (S4.3(b)) and (S4.3(c)) require that each tire shall have permanently molded the maximum permissible inflation pressure and the maximum load rating of the tire, respectively. Notice of receipt of the application was published, with a 30-day comment period, on February 9, 2005 in the Federal Register (70 FR 6923). NHTSA received no comment on this application.

The noncompliance with S4.3(c) relates to the sidewall markings. Bridgestone/Firestone Tochigi, Japan Plant produced approximately 323 tires with incorrect markings. The noncompliant tires were marked: “Max Load 4540 Kg (10,000 lbs.) @ 790 kPa (115 psi).” The correct marking is as follows: “Max Load 4625 Kg (10,200 lbs.) @ 830 kPa (120 psi).”

Bridgestone/Firestone believes that the noncompliance described herein is inconsequential as it relates to motor vehicle safety because the load molded on the tire is less than the actual prescribed maximum load. Thus the tires can easily accommodate the load they will likely carry per tire application. Therefore, Bridgestone/Firestone believes this noncompliance is particularly unlikely to have an adverse effect on motor vehicle safety and is clearly inconsequential in that regard. The noncompliant tires meet or exceed all performance requirements of FMVSS No. 109 and will have no impact on the operational performance or safety of vehicles on which these tires are mounted.

The agency believes that the true measure of inconsequentiality to motor vehicle safety is the effect of the noncompliance on the operational safety of vehicles on which these tires are mounted. The correct label for max load at max pressure is “10200 lbs @ 120 psi”. The incorrect label says “10,000 lbs @ 115 psi”. Although the max load is labeled to be less on the incorrect label than the actual max load, the pressure is also lower, which has an effect on the load bearing ability of the tire. Referencing the European Tyre and Rim Technical Organization tire tables for that size tire reveals that a 445/50R22.5 tire that has a max load at max pressure of 10,200 lbs @ 120 psi, will be able to support 9860 lbs @ 115 psi. Therefore, at 115 psi the tire will be able to support 140 lbs less than the 10,000 lbs stated. Hence the incorrect label would allow the tire to be overloaded at the stated max pressure of 115 psi.

In consideration of the foregoing, NHTSA has decided that the applicant does not meet its burden of persuasion that the noncompliance is inconsequential to motor vehicle safety. Accordingly, its application is denied and the applicant is not exempted from providing the notification of the noncompliance as required by 49 U.S.C. 30118, and from remedying the noncompliance, as required by 49 U.S.C. 30120.

(49 U.S.C. 301118, 301120; delegations of authority at 49 CFR 1.50 and 501.8)

Issued on: May 24, 2005.
Stephen R. Kratzke,
Associate Administrator for Rulemaking.

[FR Doc. 05-10722 Filed 5-27-05; 8:45 am]

BILLING CODE 4910-59-P